DEPARTMENT OF THE TREASURY

Office of Foreign Assets Control

Additional Designations, Foreign Narcotics Kingpin Designation Act

AGENCY: Office of Foreign Assets Control, Treasury.

ACTION: Notice.

SUMMARY: The U.S. Department of the Treasury 's Office of Foreign Assets Control (“OFAC”) is publishing the names of eight individuals and four entities whose property and interests in property have been blocked pursuant to the Foreign Narcotics Kingpin Designation Act (“Kingpin Act”) (21 U.S.C. 1901-1908, 8 U.S.C. 1182).

DATES: The designation by the Director of OFAC of the eight individuals and four entities identified in this notice pursuant to section 805(b) of the Kingpin Act is effective on January 17, 2013.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On January 17, 2013, the Director of OFAC designated the following eight individuals and four entities whose property and interests in property are blocked pursuant to section 805(b) of the Kingpin Act.

Individuals

1. CHAN INZUNA, Araceli; DOB 08 Feb 1985; POB Mazatlan, Sinaloa, Mexico; nationality Mexico; Passport 03040074084 (Mexico) (individual) [SDNTK].

2. FLORES APODACA, Augustin (a.k.a. “EL BARBON”; a.k.a. “EL INGENIERO”; a.k.a. “EL NINO”), Calle Sierra Madre Occidental No. 1280, Colonia Canadas, Culiacan, Sinaloa 8000, Mexico; DOB 09 Jun 1964; POB Sinaloa, Mexico; Passport 040070827 (Mexico) (individual) [SDNTK].

3. FLORES APODACA, Angelina; DOB 21 Jul 1958; POB Guasave, Sinaloa, Mexico; Passport 040068785 (Mexico) (individual) [SDNTK].

4. FLORES APODACA, Panfilo; DOB 01 Jun 1969; POB Guasave, Sinaloa, Mexico; Passport G00527961 (Mexico) (individual) [SDNTK].

5. MEZA FLORES, Fausto Isidro (a.k.a. “ISIDRO, Chapito”; a.k.a. “ISIDRO, Chapo”); DOB 19 Jun 1982; POB Navojoa, Sinaloa, Mexico; nationality Mexico; Passport 07040028724 (Mexico) (individual) [SDNTK] (Linked To: AUTOTRANSPORTES TERRESTRES S.A. DE C.V.; Linked To: AUTO SERVICIO JATZIRY S.A. DE C.V.; Linked To: CONSTRUCTORA JATZIRY DE GUASAVE S.A. DE C.V.).

6. MEZA FLORES, Salome (a.k.a. “FINO”; a.k.a. “PELON”); DOB 23 Oct 1962; POB Guasave, Sinaloa, Mexico; nationality Mexico; Passport 07040059504 (Mexico) (individual) [SDNTK].

7. MEZA ANGULO, Fausto Isidro; DOB 19 Jun 1982; Passport 07040028724 (individual) [SDNTK].

8. MEZA FLORES, Flor Angely; DOB 20 Sep 1989; POB Guasave, Sinaloa, Mexico; nationality Mexico; Passport 040068790 (Mexico) (individual) [SDNTK].

Entities

1. AUTO SERVICIO JATZIRY S.A. DE C.V., Callejon Tercero SN, Col. Centro, Guasave, Sinaloa, Mexico; Registration ID 12577 (Mexico) [SDNTK] (Linked To: MEZA FLORES, Fausto Isidro).

2. AUTOTRANSPORTES TERRESTRES S.A. DE C.V., Callejon Tercero SN, Col. Centro, Guasave, Sinaloa, Mexico [SDNTK] (Linked To: MEZA FLORES, Fausto Isidro).

3. CONSTRUCTORA JATZIRY DE GUASAVE S.A. DE C.V., Callejon Tercero SN, Col. Centro, Guasave, Sinaloa, Mexico; Registration ID 13554 [SDNTK] (Linked To: MEZA FLORES, Fausto Isidro).

4. MEZA FLORES DRUG TRAFFICKING ORGANIZATION, Mexico [SDNTK].

Dated: January 17, 2013.
Adam J. Szubin,
Director, Office of Foreign Assets Control.

[FR Doc. 2013-01538 Filed 1-24-13; 8:45 am]

BILLING CODE 4810-AL-P